FEDERAL COMMUNICATIONS COMMISSION

47 CFR Part 64

[CG Docket Nos. 03-123, 10-51, 13-24; FCC 22-51; FR ID 104192]

VRS and IP CTS—Commencement of Service Pending User Registration

AGENCY: Federal Communications Commission.

ACTION: Final rule.

SUMMARY: In this document, the Federal Communications Commission (FCC or Commission) adopts a two-week “grace period” to allow Video Relay Service (VRS) and Internet Protocol Captioned Telephone Service (IP CTS) providers to commence service to new or porting-in users while the user's identity is verified by the Telecommunications Relay Services (TRS) User Registration Database. These actions will increase the efficiency of the registration process, avoid unnecessary service delays, and ensure that TRS users' experience in ordering new service or porting service to a new TRS provider is comparable to that of voice telephone service users.

DATES: The rules are effective October 21, 2022, except for the amendments to §§ 64.611 (amendatory instruction 3) and 64.615 (amendatory instruction 4), which are delayed. The Commission will publish a document in the Federal Register announcing the effective dates.

FOR FURTHER INFORMATION CONTACT: William Wallace, Disability Rights Office, Consumer and Governmental Affairs Bureau, at 202-418-2716, or William.Wallace@fcc.gov.

SUPPLEMENTARY INFORMATION: This is a summary of the Commission's Report and Order, document FCC 22-51, adopted June 28, 2022, released June 30, 2022, in CG Docket Nos. 03-123, 10-51, and 13-24. The Commission sought comment on the two-week grace period issue in Misuse of Internet Protocol (IP) Captioned Telephone Service; Telecommunications Relay Services and Speech-to-Speech Services for Individuals with Hearing and Speech Disabilities, Further Notice of Proposed Rulemaking, CG Docket Nos. 13-24 and 03-123, published at 84 FR 9276, March 14, 2019 (2019 IP CTS Further Notice of Proposed Rulemaking (FNPRM)) and in Structure and Practices of the Video Relay Service Program; Telecommunications Relay Services and Speech-to-Speech Services for Individuals with Hearing and Speech Disabilities, Further Notice of Proposed Rulemaking, CG Docket Nos. 10-51 and 03-123, published at 84 FR 26379, June 6, 2019 (2019 VRS FNPRM).

The full text of document FCC 22-51 can be accessed electronically via the FCC's Electronic Document Management System (EDOCS) website at www.fcc.gov/edocs or via the FCC's Electronic Comment Filing System (ECFS) website at www.fcc.gov/ecfs. To request materials in accessible formats for people with disabilities (Braille, large print, electronic files, audio format), send an email to fcc504@fcc.gov, or call the Consumer and Governmental Affairs Bureau at (202) 418-0530 (voice) or (202) 418-0432 (TTY).

Synopsis

1. User Registration and Verification. TRS are telephone transmission services that enable people with speech or hearing disabilities to communicate by wire or radio in a manner that is functionally equivalent to communication using voice services. Under section 225 of the Communications Act of 1934, as amended (the Act), 47 U.S.C. 225, the Commission must ensure that TRS are available “to the extent possible and in the most efficient manner” to persons “in the United States” who are deaf, hard of hearing, or deafblind or who have speech disabilities, so that they can communicate by telephone in a manner that is functionally equivalent to voice communication service. VRS, a form of TRS, enables people with hearing or speech disabilities who use sign language to make telephone calls over a broadband connection using a video communication device. The video link allows a communications assistant (CA) to view and interpret the party's signed conversation and relay the conversation back and forth with a voice caller. IP CTS, another form of TRS, permits a person with hearing loss to have a telephone conversation while reading captions of what the other party is saying on an internet-connected device.

2. Before commencing service to a subscriber, a VRS or IP CTS provider must register the user by collecting certain identifying information, as well as a signed self-certification of eligibility for TRS. In addition, registration data for VRS users must be submitted to the Commission's centralized TRS User Registration Database (User Database or Database). IP CTS user registration data also will be submitted and maintained in the Database once it is activated for that purpose. Upon receiving the registration data for a newly registered TRS user, the Database administrator verifies the user's identity. Providers are prohibited from seeking compensation for service to users who do not pass this identity verification check.

3. Although User Database registration is usually completed within hours of data submission, it may take longer if the administrator's initial attempt to verify a registrant's identity is unsuccessful, requiring the provider to obtain corrected information or additional documentation from the registrant. The two-week “grace period” will allow VRS and IP CTS providers to immediately begin serving new or porting-in users without waiting for the verification process to complete, thereby promoting the availability and efficiency of TRS. Moreover, by allowing customers to make and receive TRS calls during the grace period, those users are better able to obtain the documentation and information needed to verify their identities. Because providers will not be compensated for calls made during the two-week grace period unless and until the customer is successfully entered into the Database, this rule change will not increase any risk of TRS Fund payment for ineligible calls or otherwise contribute to waste, fraud, or abuse of TRS Fund resources.

4. Alternative Proposals. The Commission rejects proposals to extend the grace period beyond two weeks as unnecessary. Moreover, extending the grace period for individuals who are deafblind or who are deaf with additional disabilities would increase the complexity of administering the registration process as a whole and is unwarranted in the absence of actual evidence of a need for additional time.

5. Limitations on Number Reassignments. In the case of VRS, and in the event verification of registration data for a newly assigned TRS telephone number is not completed within two weeks, the telephone number should not be immediately reassigned. Under the current as well as the newly adopted rules, a new number is not entered in the Database until such time as the user's identity is verified. Therefore, if registration data for a new telephone number is submitted to the Database, and the user's identity has not been verified within the two-week grace period, then the number shall not be entered in the Database, and no provider may request compensation for compensable calls from that number after expiration of the two-week period. Similarly, the new telephone number and associated routing information, which were entered in the Telephone Numbering Directory to allow calls to be made to and from the new number on a provisional basis, shall be removed from the Directory. As a result, upon expiration of the two-week period, the number will not be usable until such time as the user's identity is verified or the number is reassigned to a different customer. Because the consumer has already begun using the submitted number, he or she should not be automatically deprived of the opportunity to recommence service with the same number, if verification is successfully completed within a reasonable period after the two weeks expires. Therefore, even if verification cannot be completed within the two-week grace period, the submitting provider shall retain that number in inactive status, for an additional period of 30 days or the pendency of any appeal, whichever is later, before reassigning it to a new user or otherwise making it available for re-use. If the user's identity is later verified, the telephone number may be entered in the Database at that time and calls made to or from the number from that time forward may be submitted for compensation.

6. When an existing TRS telephone number has been ported, a failure to verify the number within the two-week grace period will have somewhat different consequences. Under the current rules, when a number is being ported, the Database registration of that number is not changed to designate the porting-in VRS provider until the registration data collected by the porting-in provider has been verified. By adopting the grace period, the Commission permits a port to be completed on a provisional basis, pending verification of the registration data submitted by the porting-in provider. Therefore, the porting-in provider's routing information shall be entered in the TRS Numbering Directory, so that during the two-week grace period, calls to and from the ported number are handled by the porting-in VRS provider. However, the number will continue to be registered in the User Database under the name of the porting-out VRS provider until the registration data submitted by the porting-in provider has been verified. If such verification is not completed within the two-week grace period, then the port will be reversed, and the porting-out provider's routing information will be re-entered in the TRS Numbering Directory. In the event that verification of a ported number is not completed within the grace period, neither the porting-out nor porting-in provider may seek compensation for calls placed to or from the ported number during those two weeks.

7. Technical Corrections to TRS Rules. This document amends § 64.604(d) of the Commission's rules to delete an obsolete cross-reference. Section 64.604(d) of the Commission's rules provides that the applicable requirements of certain provisions of the Commission's rules are to be considered mandatory minimum standards for TRS. Among the listed provisions is § 64.617 of the Commission's rules, which was repealed in 2017. The cross-reference to that provision in § 64.604(d) of the Commission's rules was not deleted.

8. Good cause exists to make this correction without prior notice and comment. The cross-reference is clearly incorrect and without any substantive effect, now that § 64.617 of the Commission's rules has been deleted. The correction is therefore simply a conforming change to the Commission's rules.

9. The Commission also makes a technical correction to § 64.604(c)(5)(iii)(D)(1) of its rules, which addresses data reporting requirements. The four bold, italicized words below were inadvertently deleted from the following excerpt from the previous version of that provision: “TRS providers shall provide the administrator with the following: total TRS minutes of use, total interstate TRS minutes of use, total operating expenses and total TRS investment in general in accordance with part 32 of this chapter . . .” The correction restores the inadvertently deleted text.

Final Regulatory Flexibility Analysis

10. As required by the Regulatory Flexibility Act of 1980, as amended (RFA), the Commission incorporated an Initial Regulatory Flexibility Analysis (IRFA) into both the 2019 VRS FNPRM and the 2019 IP CTS FNPRM. The Commission sought written public comment on the proposals in both FNPRMs, including comment on the IRFAs. No comments were received in response to the IRFAs.

11. Need for, and Objectives of, the Rules. This document addresses the procedures for registering users of certain forms of TRS and verifying their identities in the User Database. The purpose of these rules is to ensure that only persons with hearing and speech disabilities who are eligible to use TRS can make calls that are compensated from the Interstate TRS Fund. Providers of VRS and IP CTS cannot receive compensation from the Fund unless the caller is registered in, and has had his or her identity verified, in the User Database.

12. The Commission adopts a two-week grace period during which VRS and IP CTS providers can handle calls for new and porting-in customers after submitting the user's registration information while identity verification is pending and receive compensation for the calls as long as the user's identity is ultimately verified in the User Database as eligible for TRS within the same two-week period from the initial submission of the user's registration information. The Commission concludes that the grace period will improve functional equivalency for individuals with hearing and speech disabilities because it will allow them to start making calls immediately with their TRS provider, just as most voice customers of landline and mobile services can start using the service when they sign up for service.

13. The Commission finds that the two-week grace period will not contribute to waste, fraud, and abuse of the TRS Fund. If the user is verified, then his or her calls during the two-week period are eligible for compensation. If the user is not verified, then the VRS or IP CTS provider will not be compensated for the calls. Accordingly, the TRS Fund will not be paying for ineligible calls.

14. Summary of Significant Issues Raised by Public Comments in Response to the IRFA. No comments were filed in response to either IRFA.

15. Response to Comments by the Chief Counsel for Advocacy of the Small Business Administration. The Chief Counsel did not file any comments in response to the proposed rules in this proceeding.

16. Description and Estimate of the Number of Small Entities to which the Rules will Apply. The amendments to rules adopted in this document will affect the obligations of VRS and IP CTS providers. These services can be included within the broad economic category of All Other Telecommunications.

17. Description of Projected Reporting, Recordkeeping, and Other Compliance Requirements. In allowing VRS and IP CTS providers to receive compensation for up to two weeks while the identity verification is pending for new users and users changing providers for calls by or to such users, the Commission retains the reporting, recordkeeping, and other compliance requirements currently applicable to VRS and IP CTS providers and adopts minor modified reporting requirements related to the timing for requesting compensation for calls by and to such users.

18. For new users and users changing providers, VRS and IP CTS providers must track what calls are made by and to such users while their identity verification remains pending and only seek compensation from the Interstate TRS Fund for those call minutes within the two-week grace period if the user's identity is verified by the User Database administrator before the end of that period. For users whose identify cannot be verified within the two-week period, VRS and IP CTS providers can only seek compensation for calls by and to the user if and when the user's identity has been verified.

19. These modified requirements are no more burdensome than those currently applicable to VRS and IP CTS providers and are needed to ensure compliance with the Commission's rules and protect against waste, fraud, and abuse of the TRS program.

20. Steps Taken to Minimize Significant Impact on Small Entities, and Significant Alternatives Considered. The new rule does not impose any modified requirements that would increase regulatory burdens beyond those that are already required. The modified requirements apply equally to all VRS and IP CTS providers and are necessary to prevent waste, fraud, and abuse of the TRS Fund by ensuring that providers are not compensated for service provided to users who do not satisfy the verification requirements.

Ordering Clauses

21. Pursuant to sections 1, 2, and 225 of the Communications Act of 1934, as amended, 47 U.S.C. 151, 152, and 225, document FCC 22-51 is adopted, and the Commission's rules are hereby amended.

22. The Commission's Consumer and Governmental Affairs Bureau, Reference Information Center, shall send a copy of document FCC 22-51, including the Initial Regulatory Flexibility Analysis, to the Chief Counsel for Advocacy of the Small Business Administration.

Congressional Review Act

The Commission sent a copy of document FCC 22-51 to Congress and the Government Accountability Office pursuant to the Congressional Review Act, 5 U.S.C. 801(a)(1)(A).

Final Paperwork Reduction Act of 1995 Analysis

This document contains modified information collection requirements, which are not effective until approval is obtained from the Office of Management and Budget (OMB). As part of its continuing effort to reduce paperwork burdens, the Commission will invite the general public to comment on the information collection requirements as required by the PRA of 1995, Public Law 104-13. The Commission will publish a separate document in the Federal Register announcing approval of the information collection requirements. Pursuant to the Small Business Paperwork Relief Act of 2002, Public Law 107-198, 44 U.S.C. 3506(c)(4), the Commission previously sought comment on how the Commission might “further reduce the information burden for small business concerns with fewer than 25 employees.” 84 FR 9276, March 14, 2019; 84 FR 26379, June 6, 2019.

List of Subjects in 47 CFR Part 64

Individuals with disabilities, Telecommunications, Telephone.

Federal Communications Commission.
Marlene Dortch,
Secretary, Office of the Secretary.

Final Regulations

For the reasons discussed in the preamble, the Federal Communications Commission amends 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

2. Amend § 64.604 by revising paragraphs (c)(5)(iii)(D)(1) and (d) to read as follows:

§ 64.604 Mandatory minimum standards.

* * * * *

(c) * * *

(5) * * *

(iii) * * *

(D) * * *

(1) Cost and demand data. TRS providers seeking compensation from the TRS Fund shall provide the administrator with true and adequate data, and other historical, projected and state rate related information reasonably requested to determine the TRS Fund revenue requirements and payments. TRS providers shall provide the administrator with the following: total TRS minutes of use, total interstate TRS minutes of use, total operating expenses and total TRS investment in general in accordance with part 32 of this chapter, and other historical or projected information reasonably requested by the administrator for purposes of computing payments and revenue requirements. In annual cost data filings and supplementary information provided to the administrator regarding such cost data, IP CTS providers that contract for the supply of services used in the provision of TRS shall include information about payments under such contracts, classified according to the substantive cost categories specified by the administrator. To the extent that a third party's provision of services covers more than one cost category, the resubmitted cost reports must provide an explanation of how the provider determined or calculated the portion of contractual payments attributable to each cost category. To the extent that the administrator reasonably deems necessary, providers shall submit additional detail on such contractor expenses, including but not limited to complete copies of such contracts and related correspondence or other records and information relevant to determining the nature of the services provided and the allocation of the costs of such services to cost categories.

* * * * *

(d) Other standards. The applicable requirements of § 9.14 of this chapter and §§ 64.611, 64.615, 64.621, 64.631, 64.632, 64.5105, 64.5107, 64.5108, 64.5109, and 64.5110 are to be considered mandatory minimum standards.

3. Delayed indefinitely, amend § 64.611 by:

a. Revising paragraph (a)(4)(iii);

b. Adding paragraph (a)(4)(iv);

c. Redesignating paragraph (j)(2)(v) as paragraph (j)(2)(vi); and

d. Adding a new paragraph (j)(2)(v).

The revision and additions read as follows:

§ 64.611 Internet-based TRS registration.

(a) * * *

(4) * * *

(iii) VRS providers must submit the information in the introductory text of paragraph (a)(4) of this section upon initiation of service for users registered after 60 days of notice from the Commission that the TRS User Registration Database is ready to accept such information. VRS providers may provide service to such users for up to two weeks after the user's registration information has been submitted to the TRS User Registration Database pending verification of the user's identity. After the user's identity is verified by the Database administrator, VRS providers may seek TRS Fund compensation for calls handled during such pre-verification period of up to two weeks.

(iv) If a VRS user's registration data submitted pursuant to paragraph (a)(4)(iii) of this section is not verified by the TRS User Registration Database administrator within two weeks after submission, the VRS provider shall hold the assigned number for up to 30 days or the pendency of an appeal, whichever is later, pending the outcome of any further efforts to complete verification, before returning the number to inactive status or assigning it to another user. If a VRS user's identity is verified within such 30-day period, or during the pendency of an appeal, whichever is later, the administrator may enter the number into the Database (and the TRS Numbering Directory) as assigned to that user.

* * * * *

(j) * * *

(2) * * *

(v) IP CTS providers may provide service to new users for up to two weeks after the user's registration information has been submitted to the TRS User Registration Database pending verification of the user's identity. After a user's identity is verified by the Database administrator, IP CTS providers may seek TRS Fund compensation for calls handled during such pre-verification period.

* * * * *

4. Delayed indefinitely, amend § 64.615 by adding paragraphs (a)(6)(v) and (vi) to read as follows:

§ 64.615 TRS User Registration Database and administrator.

(a) * * *

(6) * * *

(v) Notwithstanding paragraphs (a)(6)(ii) through (iv) of this section, VRS and IP CTS providers may provide service to a new or porting user for up to two weeks after the user's registration information has been submitted to the TRS User Registration Database, pending verification of the user's identity. After such user's identity is verified by the Database administrator, a TRS provider may seek TRS Fund compensation for calls handled during such pre-verification period.

(vi) If a VRS provider submits registration information for a TRS telephone number that is being ported from another VRS provider, and user's identity cannot be immediately verified, then the porting-in provider's routing information for that telephone number shall be provisionally entered in the TRS Numbering Directory for up to two weeks to allow the routing of calls to the porting-in VRS provider pursuant to paragraph (a)(6)(v) of this section. If the user's identity is not verified by the TRS User Registration Database administrator within the allowed two-week period, the porting-out provider's routing information shall be re-entered in the TRS Number Directory.

* * * * *

[FR Doc. 2022-20106 Filed 9-20-22; 8:45 am]

BILLING CODE 6712-01-P